FEDERAL COMMUNICATIONS COMMISSION

Notice of Public Information Collection(s) Being Reviewed by the Federal Communications Commission for Extension Under Delegated Authority

March 24, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before June 1, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith B.Herman@fcc.gov.

SUPPLEMENTARY INFORMATION: OMB Control Number: 3060-0411.

Title: Procedures for Formal Complaints Filed Against Common Carriers.

Form No.: FCC Form 485.

Type of Review: Extension of a currently approved collection.

Respondents: Business or other for-profit, not-for-profit institutions, Federal government, and State, local or tribal government.

Number of Respondents: 91.

Estimated Time per Response: .50 hours-8 hours.

Frequency of Response: Recordkeeping requirement, third party disclosure requirement, and on occasion reporting requirement.

Total Annual Burden: 1,388 hours.

Total Annual Cost: 1,055,000.

Privacy Act Impact Assessment: N/A.

Needs and Uses: Sections 206-209 of the Communications Act of 1934, as amended (the “Act”), provide the statutory framework for the Commission's rules for resolving formal complaints against common carriers. Section 208(a) authorizes complaints by any person “complaining of anything done or omitted to be done by any common carrier” subject to the provisions of the Act. Section 208(a) specifically states that “it shall be the duty of the Commission to investigate the matters complained of in such manner and by such means as it shall deem proper.” In 1988, Congress added subsection 208(b) to require that any complaint filed with the Commission concerning the lawfulness of a common carrier's charges, practices, classifications or regulations must be resolved by the Commission in a final, appealable order within 12 months from the date filed, or 15 months from the date filed if “the investigation raises questions of fact of * * * extraordinary complexity.”

This collection of information includes the process for submitting a formal complaint. The information is used by the Commission to determine the sufficiency of complaints and to resolve the merits of disputes between the parties. The Accelerated Docket process expedites the processing of certain complaints. If the information is not collected, the Commission will be unable to resolve certain common carrier-related complaint proceedings.

Federal Communications Commission.
Marlene H. Dortch,
Secretary.

[FR Doc. 04-7379 Filed 3-31-04; 8:45 am]

BILLING CODE 6712-01-P